FEDERAL MINE SAFETY AND HEALTH REVIEW COMMISSION

Sunshine Act Meeting

October 13, 2006.

Time and Date: 10 a.m., Thursday, October 26, 2006.

Place: The Richard V. Backley Hearing Room, 9th Floor, 601 New Jersey Avenue, NW., Washington, DC.

Status: Open.

Matters to be Considered: The Commission will consider and act upon the following in open session: Secretary of Labor v. Hanson Aggregates New York, Inc., Docket No. YORK 2005-22-M. (Issues include whether the Administrative Law Judge erred when he granted the Secretary of Labor's motion for summary decision and found that the operator violated the requirement of 30 CFR 56.14211(c) that a raised component of mobile equipment must be secured to prevent accidental lowering when persons working on or around the equipment are exposed to the hazard of accidental lowering of the component).

Any person attending this meeting who requires special accessibility features and/or auxiliary aids, such s sign language interpreters, must inform the Commission in advance of those needs, subject to 29 CFR 2706.150(a)(3) and 2706.160(d).

FOR FURTHER INFORMATION CONTACT: Jean Ellen, (202) 434-9950/(202) 708-9300 for TDD Relay/1-800-877-8339 for toll free.

Jean H. Ellen,
Chief Docket Clerk.

[FR Doc. 06-8828 Filed 10-18-06; 12:02 pm]

BILLING CODE 6735-01-M